DEPARTMENT OF JUSTICE

Second Notice of Lodging of Proposed Consent Decree Under the Comprehensive Environmental Response Compensation and Liability Act

On August 28, 2014, the Department of Justice lodged a proposed Consent Decree with the United States District Court for the District of New Mexico in the lawsuit entitled United States and State of New Mexico v. Chevron Mining Inc., Civil Action No. 14cv783 KBM-SCY.

The plaintiffs seek compensation for damage to natural resources in and about the former Molycorp Mining Site. The Site includes a molybdenum mine and mill, tailings ponds, and a slurry pipeline—all located near Questa, New Mexico. The plaintiffs allege that defendant is liable for injury to natural resources resulting from releases of hazardous substances at that Site. Under the Consent Decree that embodies the settlement proposed here, defendant will transfer certain property that will mitigate some of injury suffered and will pay the federal and state natural resource trustees about $4 million to be used to restore, replace, or acquire resources—all in compliance with the terms of the Consent Decree and other applicable law. Defendant also will pay specified past assessment costs incurred by the trustees. In return, defendant will receive from plaintiffs specified covenants not to sue for natural resource damages resulting from releases from the Site, subject to reservations specified in the proposed Decree.

By a prior notice published in the Federal Register, the Department invited public comment on this proposed Decree. Among the comments received were a number that requested a longer time for public comment. Accordingly, after considering the circumstances, by publication of this notice the Department extends the period for public comment on the proposed Decree. Comments should be addressed to the Assistant Attorney General, Environment and Natural Resources Division, and should refer to United States and State of New Mexico v. Chevron Mining Inc., D.J. Ref. No. 90-11-2-07579. All comments must be submitted no later than thirty (30) days after the publication date of this second notice. Comments may be submitted either by email or by mail:

To submit comments: | Send them to:
By email | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Decree upon written request and payment of reproduction costs. Please mail your request and payment to: Consent Decree Library, U.S. DOJ—ENRD, P.O. Box 7611, Washington, DC 20044-7611.

Please enclose a check or money order for $15.75 (25 cents per page reproduction cost) payable to the United States Treasury.

Maureen Katz,
Assistant Section Chief, Environmental Enforcement Section, Environment and Natural Resources Division.

[FR Doc. 2014-25420 Filed 10-24-14; 8:45 am]

BILLING CODE 4410-15-P